Title 3—

The President

Memorandum of September 10, 2018

Delegation of Authority Under Section 1290(b) of the John S. McCain National Defense Authorization Act for Fiscal Year 2019

Memorandum for the Secretary of State[,] the Secretary of Defense[, and] the Director of National Intelligence

By the authority vested in me as President by the Constitution and the laws of the United States of America, including section 301 of title 3, United States Code, I hereby delegate to the Secretary of State, the Secretary of Defense, and the Director of National Intelligence the authority to provide the appropriate briefings to the Congress as required by section 1290(b) of the John S. McCain National Defense Authorization Act for Fiscal Year 2019 (Public Law 115-232).

The Secretary of State is authorized and directed to publish this memorandum in the Federal Register.

THE WHITE HOUSE,

Washington, September 10, 2018

[FR Doc. 2018-21805

Filed 10-3-18; 11:15 am]

Billing code 4710-10-P